DEPARTMENT OF HEALTH AND HUMAN SERVICES

Food and Drug Administration

21 CFR Part 113

[Docket No. FDA-2007-N-0265] (formerly 2007N-0026)

Temperature-Indicating Devices; Thermally Processed Low-Acid Foods Packaged in Hermetically Sealed Containers; Correction

AGENCY: Food and Drug Administration, HHS.

ACTION: Final rule; correction.

SUMMARY: The Food and Drug Administration (FDA) is correcting a final rule that appeared in the Federal Register of Thursday, March 3, 2011 (76 FR 11892). The final rule amended FDA's regulations for thermally processed low-acid foods packaged in hermetically sealed containers to allow for use of other temperature-indicating devices, in addition to mercury-in-glass thermometers, during processing. The final rule was published with one error. This document corrects that error.

DATES: Effective March 5, 2012.

FOR FURTHER INFORMATION CONTACT: Mischelle B. Ledet, Center for Food Safety and Applied Nutrition (HFS-625), Food and Drug Administration, 5100 Paint Branch Pkwy., College Park, MD 20740, (240) 205-1165.

SUPPLEMENTARY INFORMATION: In FR Doc. 2011-4475, appearing on page 11892, in the Federal Register of Thursday, March 3, 2011, the following correction is made:

§ 113.40 [Corrected]

On page 11921, in the third column, seventh line from the bottom, in § 113.40(g)(2)(i)(A), the word “implemented” is corrected to read “instrumented”.

Dated: December 21, 2011.
Leslie Kux,
Acting Assistant Commissioner for Policy.

[FR Doc. 2011-33183 Filed 12-27-11; 8:45 am]

BILLING CODE 4160-01-P